ENVIRONMENTAL PROTECTION AGENCY

[EPA-HQ-OW-2006-0369; FRL-9840-2]

Proposed Information Collection Request; Comment Request; National Estuary Program

AGENCY: Environmental Protection Agency (EPA).

ACTION: Notice.

SUMMARY: The Environmental Protection Agency is planning to submit an information collection request (ICR), “National Estuary Program” (EPA ICR No. 1500.08, OMB Control No. 2040-0138 to the Office of Management and Budget (OMB) for review and approval in accordance with the Paperwork Reduction Act (44 U.S.C. 3501 et seq.). Before doing so, EPA is soliciting public comments on specific aspects of the proposed information collection as described below. This is a proposed extension of the ICR, which is currently approved through January 31, 2014. An Agency may not conduct or sponsor and a person is not required to respond to a collection of information unless it displays a currently valid OMB control number.

DATES: Comments must be submitted on or before September 30, 2013.

ADDRESSES: Submit your comments, referencing Docket ID No. EPA-HQ-OW-2006-0369, online using www.regulations.gov (our preferred method), by email to: OW-Docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: John McShane, Oceans and Coastal Protection Division, Office of Wetlands, Oceans, and Watersheds, Mail Code 4504T, Environmental Protection Agency, 1200 Pennsylvania Ave. NW., Washington, DC 20460; telephone number: (202) 566-1381; fax number: (202) 566-1336; email address: mcshane.john@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The National Estuary Program (NEP) involves collecting information from the state or local agency or nongovernmental organizations that receive funds under Sec. 320 of the Clean Water Act (CWA). The regulation requiring this information is found at 40 CFR Part 35. Prospective grant recipients seek funding to develop or oversee and coordinate implementation of Comprehensive Conservation Management Plans (CCMPs) for estuaries of national significance. In order to receive funds, grantees must submit an annual workplan to EPA which are used to track performance of each of the 28 estuary programs currently in the NEP.

EPA provides funding to NEPs to support long-term implementation of CCMPs if such programs pass a program evaluation process. The primary purpose of the program evaluation process is to help EPA determine whether the 28 programs included in the National Estuary Program (NEP) are making adequate progress implementing their CCMPs and therefore merit continued funding under Sec. 320 of the Clean Water Act. EPA also requests that each of the 28 NEPs receiving Sec. 320 funds report information that can be used in the GPRA reporting process. This reporting is done on an annual basis and is used to show environmental results that are being achieved within the overall NEP Program. This information is ultimately submitted to Congress along with GPRA information from other EPA programs.

Form Numbers: None.

Respondents/Affected Entities: Entities potentially affected by this action are those state or local agencies or nongovernmental organizations in the National Estuary Program (NEP) who receive grants under Section 320 of the Clean Water Act.

Respondent's Obligation to Respond: Required to obtain or retain a benefit (Section 320 of the Clean Water Act).

Estimated Number of Respondents: 28.

Frequency of Response: Annual.

Total Estimated Burden: 6,113 hours (per year). Burden is defined at 5 CFR 1320.3(b).

Total Estimated Cost: $409,349 (per year), includes $0 annualized capital or operation and & maintenance costs.

Changes in Estimates: There will likely be a decrease in the total estimated respondent burden hours compared with the ICR currently approved by OMB. This decrease is due to changing the program evaluations from every three years to every five years. Note that these numbers will be updated in the final FR Notice.

Dated: July 22, 2013.
Paul Cough,
Director, Oceans and Coastal Protection Division.

[FR Doc. 2013-18159 Filed 7-30-13; 8:45 am]

BILLING CODE 6560-50-P